DEPARTMENT OF AGRICULTURE

Forest Service

Newspapers Used for Publication of Legal Notices by the Pacific Northwest Region, Oregon, Washington, and Parts of California

AGENCY: Forest Service, Agriculture (USDA).

ACTION: Notice of newspapers of record.

SUMMARY: This notice lists the newspapers that will be used by the ranger districts, national forests and grasslands, and regional office of the Pacific Northwest Region to publish legal notices required under the Code of Federal Regulations (CFR). The intended effect of this action is to inform interested members of the public which newspapers the Forest Service will use to publish notices of proposed actions and notices of decision. This will provide the public with constructive notice of Forest Service proposals and decisions, provide information on the procedures to comment, object, or appeal, and establish the date that the Forest Service will use to determine if comments, objections, or appeals were timely.

DATES: The list of newspapers will remain in effect for one year from the date of publication, when another notice will be published in the Federal Register.

ADDRESSES: Sasha Bertel, Regional Environmental Coordinator, Pacific Northwest Region, 1220 Southwest Third Avenue, Portland, OR 97204.

FOR FURTHER INFORMATION CONTACT: Sasha Bertel, Regional Environmental Coordinator, Pacific Northwest Region, by phone at (541) 383-4758 or by email at sasha.bertel@usda.gov.

SUPPLEMENTARY INFORMATION: The administrative procedures at 36 CFR 214, 218, and 219 require the Forest Service to publish notices in a newspaper of general circulation. The content of the notices is specified in 36 CFR 214, 218, and 219. In general, the notices will identify: the decision or project, by title or subject matter; the name and title of the official making the decision; how to obtain additional information; and where and how to file comments or objections/appeals. The date the notice is published will be used to establish the official date for the beginning of the comment or objection/appeal period. The newspapers to be used are as follows:

Regional Forester, Pacific Northwest Region

Regional Forester decisions affecting National Forests in Oregon: The Oregonian

Regional Forester decisions affecting National Forests in Washington: The Seattle Times

Regional Forester decisions that affect all National Forests and Grasslands in the Pacific Northwest Region: The Oregonian and The Seattle Times

Columbia River Gorge National Scenic Area

Columbia River Gorge Area Manager/Forest Supervisor decisions: Columbia Gorge News

Colville National Forest

Colville Forest Supervisor and Three Rivers District Ranger decisions: Statesman-Examiner

Republic District Ranger decisions: Ferry County View

Sullivan Lake District Ranger decisions: The Newport Miner

Tonasket District Ranger decisions: The Omak-Okanogan County Chronicle

Deschutes National Forest

Deschutes Forest Supervisor, District Ranger, and Redmond Air Center Manager decisions: The Bulletin

Fremont-Winema National Forest

Fremont-Winema Forest Supervisor and District Ranger decisions: Herald and News

Gifford Pinchot National Forest

Gifford Pinchot Forest Supervisor, Mount Adams District Ranger, and Mount Saint Helens National Volcanic Monument decisions: The Columbian

Cowlitz Valley District Ranger decisions: The Chronicle

Malheur National Forest

Malheur Forest Supervisor, Blue Mountain District Ranger, and Prairie City District Ranger decisions: East Oregonian

Emigrant Creek District Ranger decisions: Burns Times Herald

Mt. Baker-Snoqualmie National Forest

Mt. Baker-Snoqualmie Forest Supervisor, Darrington District Ranger, and Skykomish District Ranger decisions: Everett Herald

Mt. Baker District Ranger decisions that encompass the northern half of the district: Bellingham Herald

Mt. Baker District Ranger decisions that encompass the southern half of the district: Skagit Valley Herald

Snoqualmie District Ranger decisions that encompass the northern half of the district: Snoqualmie Valley Record

Snoqualmie District Ranger decisions that encompass the southern half of the district: Enumclaw Courier Herald

Mt. Hood National Forest

Mt. Hood Forest Supervisor and District Ranger decisions: The Oregonian

Ochoco National Forest and Crooked River National Grassland

Ochoco Forest Supervisor and District Ranger decisions: The Bulletin

Okanogan-Wenatchee National Forest

Okanogan-Wenatchee Forest Supervisor, Chelan District Ranger, Entiat District Ranger, and Wenatchee River District Ranger decisions: The Wenatchee World

Cle Elum District Ranger decisions: Ellensburg Daily Record

Methow Valley District Ranger decisions: Methow Valley News

Naches District Ranger decisions: Yakima Herald

Olympic National Forest

Olympic Forest Supervisor and District Ranger decisions: The Olympian

Rogue River-Siskiyou National Forest

Rogue River-Siskiyou Forest Supervisor, High Cascades District Ranger, J. Herbert Stone Nursery Manager, and Siskiyou Mountains District Ranger decisions: Rogue Valley Times

Gold Beach District Ranger decisions: Curry Pilot Newspaper

Powers District Ranger decisions: The World

Wild Rivers District Ranger decisions: Grants Pass Daily Courier

Siuslaw National Forest

Siuslaw Forest Supervisor decisions: Corvallis Gazette-Times

Central Coast Ranger District Ranger and Oregon Dunes National Recreation Area District Ranger decisions: The Register-Guard

Hebo District Ranger decisions: Tillamook Headlight Herald

Umatilla National Forest

Umatilla Forest Supervisor and District Ranger decisions: East Oregonian

Umpqua National Forest

Umpqua Forest Supervisor and District Ranger decisions: The News-Review

Wallowa-Whitman National Forest

Wallowa-Whitman Forest Supervisor and District Ranger decisions: East Oregonian

Willamette National Forest

Willamette Forest Supervisor, McKenzie River District Ranger, Middle Fork District Ranger, and Sweet Home District Ranger decisions: The Register-Guard

Detroit District Ranger decisions: Statesman Journal

Ellen Shultzabarger,
Associate Deputy Chief, National Forest System.

[FR Doc. 2025-07609 Filed 5-1-25; 8:45 am]

BILLING CODE 3411-15-P